NUCLEAR REGULATORY COMMISSION

[NRC-2010-0167]

Withdrawal of Regulatory Guide

AGENCY: Nuclear Regulatory Commission.

ACTION: Withdrawal of Regulatory Guide (RG) 1.165, “Identification and Characterization of Seismic Sources and Determination of Safe Shutdown Earthquake Ground Motion.”

FOR FURTHER INFORMATION CONTACT: Rebecca L. Karas, Geosciences & Geotechnical Engineering Branch 1, Division of Site & Environmental Reviews, Office of New Reactors, U.S. Nuclear Regulatory Commission, Washington, DC 20555-0001, telephone 301-415-7533 or e-mail Rebecca.Karas@nrc.gov.

SUPPLEMENTARY INFORMATION:

I. Introduction

The U.S. Nuclear Regulatory Commission (NRC) is withdrawing RG 1.165, “Identification and Characterization of Seismic Sources and Determination of Safe Shutdown Earthquake Ground Motion,” dated March 1997. RG 1.165 provides general procedures to satisfy the requirements of Title 10 of the Code of Federal Regulations, part 100.23, “Geologic and Seismic Siting Criteria” (10 CFR 100.23) for siting and licensing new reactors or new reactor plant sites. It has been replaced with RG 1.208, “A Performance-Based Approach to Define the Site-Specific Earthquake Ground Motion.”

The withdrawal of Regulatory Guide 1.165 does not alter the licensing basis of any currently operating reactor or any of the currently issued early site permits under 10 CFR part 52, subpart A. The siting decision is final for all licenses and early site permits that were reviewed and approved prior to this withdrawal of this guide. Additionally, the withdrawal of Regulatory Guide 1.165 does not affect the approval of any currently approved design certification under 10 CFR part 52, Appendix B. The design basis for each design certification, including seismic and earthquake design, were established and approved as part of the issuance of each design certification and, in accordance with 10 CFR 52.63, may not be changed except through rulemaking amending a design certification rule.

The withdrawal of Regulatory Guide 1.165 may affect applications, design certifications or design certification amendments currently under active consideration by the NRC or any future applications for new, amended, or renewed design certifications. If the applications were prepared (or are being prepared) to comply with RG 1.165, the NRC may request the applicant to demonstrate how the proposed design compares with a design meeting the guidance in Regulatory Guide 1.208. Finally, withdrawal of Regulatory Guide 1.165 may affect the NRC's consideration of any current combined license application under 10 CFR part 52, subpart C if the application was prepared to meet the withdrawn regulatory guide. The NRC may request that the applicant demonstrate how the proposed design meeting the guidance in Regulatory Guide 1.165 compares with a design meeting the guidance in new Regulatory Guide 1.208.

Regulatory Guide 1.165 is being withdrawn and replaced with the improved guidance in RG 1.208 which incorporates new developments in ground motion estimation models; updated models for earthquake sources; methods for determining site response; and new methods for defining a site-specific, performance-based ground motion response spectrum (GMRS).

The outmoded guidance in RG 1.165 was based on site and region-specific investigations combined with a probabilistic seismic hazard assessment. The new guidance in RG 1.208 incorporates developments in ground motion estimation models and new methods for defining site specific ground motion response spectrum which allows for approximately consistent performance of structures, systems, and components across a range of seismic environments.

II. Further Information

The withdrawal of Regulatory Guide 1.165 does not alter any prior or existing licensing commitments based on its use. The guidance provided in this regulatory guide is no longer necessary. Regulatory guides may be withdrawn when their guidance is superseded by congressional action or no longer provides useful information.

Regulatory guides are available for inspection or downloading through the NRC's public Web site under “Regulatory Guides” in the NRC's Electronic Reading Room at http://www.nrc.gov/reading-rm/doc-collections. Regulatory guides are also available for inspection at the NRC's Public Document Room (PDR), Room O-1 F21, One White Flint North, 11555 Rockville Pike, Rockville, MD 20852-2738. The PDR's mailing address is US NRC PDR, Washington, DC 20555-0001. You can reach the staff by telephone at 301-415-4737 or 800- 397-4209, by fax at 301-415-3548, and by e-mail to pdr.resource@nrc.gov.

Regulatory guides are not copyrighted, and NRC approval is not required to reproduce them.

Dated at Rockville, Maryland, this 23rd day of April, 2010.
For the Nuclear Regulatory Commission.
Robert G. Carpenter,
Acting Chief, Regulatory Guide Development Branch, Division of Engineering, Office of Nuclear Regulatory Research.

[FR Doc. 2010-10113 Filed 4-29-10; 8:45 am]

BILLING CODE 7590-01-P